DEPARTMENT OF ENERGY

Federal Energy Regulatory Commission

[Docket No. ER02-1656-017]

California Independent System Operator Corporation; Notice Establishing Due Date for Comments and Electronic Service Option

May 12, 2004.

The Federal Energy Regulatory Commission is seeking comments from interested participants in response to the Comments of the California Independent System Operator Corporation regarding Technical Conference filed by the California Independent System Operator Corporation (CAISO) on May 11, 2004, in this docket.

Interested participants are invited to submit information and comments in response to the CAISO's filing by no later than 5 p.m. (e.s.t.) on Wednesday, May 19, 2004.

Interested participants will have the option of serving their comments on other participants by means of an electronic list established by the Federal Energy Regulatory Commission. To choose this option, the instructions set out in the attachment to this notice must be followed.

Please note that use of the electronic service option does not relieve any participant of the requirement to:

1. File comments or other submissions in this docket with the Commission in accordance with filing procedures; and

2. Serve participants who are not registered on the electronic list.

The electronic list is intended to reduce the time and expense associated with service of documents on participants in this proceeding.

Magalie R. Salas,
Secretary.

[FR Doc. E4-1184 Filed 5-20-04; 8:45 am]

BILLING CODE 6717-01-P